DEPARTMENT OF TRANSPORTATION

Federal Aviation Administration

[Docket No: FAA-2011-0786]

Deadline for Notification of Intent To Use the Airport Improvement Program (AIP) Primary, Cargo, and Nonprimary Entitlement Funds Available to Date for Fiscal Year 2016

AGENCY: Federal Aviation Administration, DOT.

ACTION: Notice.

SUMMARY: The Federal Aviation Administration (FAA) announces May 2, 2016, as the deadline for each airport sponsor to notify the FAA whether or not it will use its fiscal year 2016 entitlement funds available under Section 47114 of Title 49, United States Code, to accomplish Airport Improvement Program (AIP) eligible projects that the airport sponsor previously identified through the Airports Capital Improvement Plan (ACIP) process during the preceding year.

The airport sponsor's notification must address all entitlement funds available to date for fiscal year 2016, as well as any entitlement funds not obligated from prior years. After Friday, July 1, 2016, the FAA will carry-over the remainder of currently available entitlement funds, and these funds will not be available again until at least the beginning of fiscal year 2017. Currently, the AIP has 79 percent of the entitlements available through July 15, 2016. If congressional action is taken on future extensions which provide for additional current year and protected entitlements (the remaining 21 percent), the FAA will then work with airport sponsors to adjust accordingly. This notification requirement does not apply to non-primary airports covered by the block-grant program.

FOR FURTHER INFORMATION CONTACT: Mr. Frank J. San Martin, Manager, Airports Financial Assistance Division, APP-500, on (202) 267-3831.

SUPPLEMENTARY INFORMATION: Title 49 of the United States Code, section 47105(f), provides that the sponsor of each airport to which funds are apportioned shall notify the Secretary by such time and in a form as prescribed by the Secretary, of the airport sponsor's intent to apply for its apportioned funds, also called entitlement funds. Therefore, the FAA is hereby notifying such airport sponsors of the steps required to ensure that the FAA has sufficient time to carry-over and convert remaining entitlement funds, due to processes required under federal laws. This notice applies only to those airports that have had entitlement funds apportioned to them, except those nonprimary airports located in designated block-grant States. Airport sponsors intending to apply for any of their available entitlement funds, including those unused from prior years, shall make their intent known by 12:00 p.m. prevailing local time on Monday, May 2, 2016, consistent with prior practice. A written indication must be provided to the designated Airports District Office (or Regional Office in regions without Airports District Offices) stating their intent to submit a grant application no later than close of business Friday, June 17, 2016 and to use their fiscal year 2016 entitlement funds available under Title 49 of the United States Code, section 47114. This notice must address all entitlement funds available to date for fiscal year 2016 including those entitlement funds not obligated from prior years. By Friday, June 17, 2016, airport sponsors that have not yet submitted a final application to the FAA, must notify the FAA of any issues meeting the final application deadline of Friday, July 1, 2016. Absent notification from the airport sponsor by the May 2 deadline and/or subsequent notification by the June 17 deadline of any issues meeting the application deadline, the FAA will proceed after Friday, July 1, 2016 to take action to carry-over the remainder of available entitlement funds without further notice. These funds will not be available again until at least the beginning of fiscal year 2017. This notice is being issued later than usual in the fiscal year due to the timing of multiple extensions of the FAA's authorizing legislation. These dates are subject to possible adjustment based on any future extensions to the FAA's authorizing legislation which currently expires July 15, 2016.

This notice is promulgated to expedite and facilitate the grant-making process.

The AIP grant program is operating under the requirements of Public Law 114-55, the “Airport and Airway Extension Act of 2015,” enacted on September 30, 2015 and subsequently amended on March 30, 2016, which authorizes the FAA through July 15, 2016 and the “Consolidated Appropriations Act, 2016” which appropriates FY 2016 funds for the AIP.

Issued in Washington, DC, on April 7, 2016.
Elliott Black,
Director, Office of Airport Planning and Programming.

[FR Doc. 2016-08766 Filed 4-14-16; 8:45 am]

BILLING CODE 4910-13-P